DEPARTMENT OF DEFENSE

Office of the Secretary

Mandatory Declassification Review Requests

AGENCY: National Security Agency/Central Security Service, DoD.

ACTION: Notice.

SUMMARY: This notice identifies the office in the National Security Agency/Central Security Service to which mandatory declassification review requests shall be addressed in accordance with 32 CFR 2001.54(a).

ADDRESSES: Requests shall be addressed to: National Security Agency/Central Security Service, 9800 Savage Road, Ft. Meade, Maryland 20755-6884, ATTN: DC324 (CPC), Suite 6884.

FOR FURTHER INFORMATION CONTACT: Ms. Linda Huffman at 301-688-7785.

Dated: May 9, 2003.
Patricia L. Toppings,
Alternate OSD Federal Register Liaison Officer, Department of Defense.

[FR Doc. 03-12413 Filed 5-16-03; 8:45 am]

BILLING CODE 5001-08-M